DEPARTMENT OF HOMELAND SECURITY

Office of the Secretary

[DHS-2004-0015]

Privacy Act of 1974; Systems of Records

AGENCY: Privacy Office, DHS.

ACTION: Notice of Privacy Act systems of records.

SUMMARY: In accordance with the Privacy Act of 1974, the Department of Homeland Security is giving notice that it proposes to add three systems of records to its inventory of record systems. The systems of records are: (1) The Freedom of Information Act and Privacy Act System; (2) the DHS Mailing and Other Lists System; and (3) the Civil Rights and Civil Liberties Matters System.

DATES: Comments must be received on or before January 5, 2005.

ADDRESSES: You may submit comments, identified by Docket Number DHS-2004-0015, by one of the following methods:

• EPA Federal Partner EDOCKET Web Site: http://www.epa.gov/feddocket. Follow instructions for submitting comments on the Web site. DHS has joined the Environmental Protection Agency (EPA) online public docket and comment system on its Partner Electronic Docket System (Partner EDOCKET). DHS and its component agencies (excluding the United States Coast Guard and Transportation Security Administration) will use the EPA Partner EDOCKET system. The USCG and TSA (legacy Department of Transportation (DOT) agencies) will continue to use the DOT Docket Management System until full migration to the electronic rulemaking federal docket management system in 2005.

• Federal eRulemaking Portal: http://www.regulations.gov. Follow the instructions for submitting comments.

• Fax: 202-772-5036 (This is not a toll-free number).

• Mail: Department of Homeland Security, Attn: Privacy Office/Nuala O'Connor Kelly, Chief Privacy Officer/202-772-9848, Washington, DC 20528.

• Hand Delivery/Courier: Department of Homeland Security, Attn: Privacy Office/Nuala O'Connor Kelly, Chief Privacy Officer/202-772-9848, Anacostia Naval Annex, 245 Murray Lane, SW., Building 410, Washington, DC 20528, 7:30 a.m. to 4 p.m.

Instructions: All submissions received must include the agency name and docket number for this notice. All comments received will be posted without change to http://www.epa.gov/feddocket, including any personal information provided.

Docket: For access to the docket to read background documents or comments received, go to http://www.epa.gov/feddocket. You may also access the Federal eRulemaking Portal at http://www.regulations.gov.

FOR FURTHER INFORMATION CONTACT: Nuala O'Connor Kelly, DHS Chief Privacy Officer, Department of Homeland Security, Washington, DC 20528 by telephone 202-772-9848 or facsimile 202-772-5036.

SUPPLEMENTARY INFORMATION: The Department of Homeland Security (DHS) is establishing two new department-wide systems of records and one new system of records within DHS headquarters under the Privacy Act of 1974 (5 U.S.C. 552a). These systems of records are part of DHS's ongoing integration and management efforts.

The Privacy Act embodies fair information principles in a statutory framework governing the means by which the United States Government collects, maintains, uses and disseminates personally identifiable information. The Privacy Act applies to information that is maintained in a “system of records.” A “system of records” is a group of any records under the control of an agency from which information is retrieved by the name of the individual or by some identifying number, symbol, or other identifying particular assigned to the individual. Individuals may request their own records that are maintained in a system of records in the possession or under the control of DHS by complying with DHS Privacy Act regulations, 6 CFR Part 5.

The Homeland Security Act of 2002, Public Law 107-296, section 222, 116 Stat. 2135, 2155 (Nov. 25, 2002) (HSA), requires the Secretary of DHS to appoint a senior official to oversee implementation of the Privacy Act and to undertake other privacy-related activities. The systems of records being published today help to carry out the DHS Chief Privacy Officer's statutory activities.

The Privacy Act requires each agency to publish in the Federal Register a description denoting the type and character of each system of records that the agency maintains, and the routine uses that are contained in each system in order to make agency recordkeeping practices transparent, to notify individuals regarding the uses to which personally identifiable information is put, and to assist the individual to more easily find such files within the Agency.

DHS is here publishing the descriptions of three systems of records. Two Department-wide systems cover records kept by all component agencies within DHS as well as DHS Headquarters relating to the processing of Freedom of Information Act and Privacy Act requests, and mailing and other lists used within DHS for administrative and outreach purposes.

The other system covers DHS records that pertain to civil rights and civil liberties complaints submitted to the DHS Office of Civil Rights and Civil Liberties (CRCL). Section 705 of the HSA, 116 Stat. at 2220-21, requires the DHS Officer for Civil Rights and Civil Liberties, who is appointed by the Secretary, to review and assess information alleging abuses of civil rights, civil liberties, and racial and ethnic profiling by employees and officials of the Department and to submit a report on these activities. The CRCL system of records will maintain the records that are created and obtained in order to carry out this statutory mandate.

In accordance with 5 U.S.C. 552a(r), DHS has provided a report of these new systems of records to the Office of Management and Budget (OMB) and to the Congress.

DHS/ALL 001

System name:

Department of Homeland Security (DHS) Freedom of Information Act (FOIA) and Privacy Act (PA) Record System.

Security classification:

Classified, sensitive.

System location:

This system of records is located in the DHS Privacy Office, Washington, DC 20528, as well as in the component FOIA/PA offices listed in “System Managers,” below.

Categories of individuals covered by the system:

Individuals who submit FOIA and/or PA requests to DHS; individuals who appeal DHS denial of their FOIA/PA requests; individuals whose requests, appeals, and/or records have been referred to DHS by other agencies; and, in some instances, attorneys or other persons representing individuals submitting such requests and appeals, individuals who are the subjects of such requests, and/or DHS personnel assigned to handle such requests or appeals.

Categories of records in the system:

Records received, created, or compiled in response to FOIA/PA requests or appeals, including: the original requests and administrative appeals; intra- or inter-agency memoranda, correspondence, notes and other documentation related to the processing of the FOIA/PA request; correspondence with the individuals or entities that submitted the requested records and copies of the requested records, including when those records might contain confidential business information or personal information. Types of information in the records may include: Requesters' and their attorneys' or representatives' names, addresses, telephone numbers, and FOIA case numbers; names, office telephone numbers, and office routing symbols of DHS employees; and names, telephone numbers, and addresses of the submitter of the information requested. The system also contains copies of all documents relevant to appeals and lawsuits under FOIA and the PA.

Authority for maintenance of the system:

5 U.S.C. 301, 552, 552a; 44 U.S.C. 3101; E.O. 12958, as amended.

Purpose(s):

The system is maintained for the purpose of processing records requests and administrative appeals under the FOIA as well as access and amendment requests and appeals under the PA; for the purpose of participating in litigation arising from such requests and appeals; and for the purpose of assisting DHS in carrying out any other responsibilities under the FOIA or the PA.

Routine uses of these records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

(1) Where a record, either on its face or in conjunction with other information, indicates a violation or potential violation of law (i.e., criminal, civil or regulatory), the relevant records may be referred to an appropriate Federal, state, territorial, tribal, local, international, or foreign law enforcement agency or other appropriate authority charged with investigating or prosecuting such a violation or enforcing or implementing such law.

(2) To contractors, grantees, experts, consultants, students, and others performing or working on a contract, service, grant, cooperative agreement, or other assignment for the Federal government, when necessary to accomplish an agency function related to this system of records.

(3) To a Federal, state, territorial, tribal, local, international, or foreign agency or entity for the purpose of consulting with that agency or entity (a) to assist in making a determination regarding access to or amendment of information, or (b) for the purpose of verifying the identity of an individual or the accuracy of information submitted by an individual who has requested access to or amendment of information.

(4) To a federal agency or entity that furnished the record or information for the purpose of permitting that agency or entity to make a decision regarding access to or correction of the record or information, or to a federal agency or entity for purposes of providing guidance or advice regarding the handling of particular requests.

(5) To the Department of Justice or other federal agency conducting litigation or in proceedings before any court, adjudicative or administrative body, when: (a) DHS, or (b) any employee of DHS in his/her official capacity, or (c) any employee of DHS in his/her individual capacity where DOJ or DHS has agreed to represent the employee, or (d) the United States or any agency thereof, is a party to the litigation or has an interest in such litigation.

(6) To a congressional office from the record of an individual in response to an inquiry from that congressional office made at the request of the individual to whom the record pertains.

(7) To the National Archives and Records Administration or other Federal government agencies pursuant to records management inspections being conducted under the authority of 44 U.S.C. 2904 and 2906.

(8) To the Department of Justice, including the United States Attorney's Offices, or a consumer reporting agency for further collection action on any delinquent debt when circumstances warrant.

(9) To the Office of Management and Budget or the Department of Justice to obtain advice regarding statutory and other requirements under the Freedom of Information Act or the Privacy Act of 1974.

Disclosure to consumer reporting agencies:

Privacy Act information may be reported to consumer reporting agencies pursuant to 5 U.S.C. 552a(b)(12).

Policies and practices for storing, retrieving, accessing, retaining, and disposing of records in the system:

Storage:

Records in this system are stored on paper and/or in digital or other electronic form. Digital and other electronic images are stored on a storage area network in a secured environment.

Retrievability:

Records are retrieved by the name, unique case identifier, social security number, or alien identification number of the requester/appellant or the attorney or other individual representing the requester, or other identifier assigned to the request or appeal.

Safeguards:

Information in this system is safeguarded in accordance with applicable laws, rules and policies, including the DHS Information Technology Security Program Handbook. All records are protected from unauthorized access through appropriate administrative, physical, and technical safeguards. These safeguards include restricting access to authorized personnel who have a need-to-know, using locks, and password protection identification features. Classified information is appropriately stored in accordance with applicable requirements. DHS file areas are locked after normal duty hours and the facilities are protected from the outside by security personnel.

Retention and disposal:

Records are retained and disposed of in accordance with the National Archives and Records Administration's General Records Schedule 14. Files may be retained for up to six years. For requests that result in litigation, the files related to that litigation will be retained for three years after final court adjudication.

System manager(s) and addresses:

I. For Headquarters components of the Department of Homeland Security, the System Manager is the Director of Departmental Disclosure, U.S. Department of Homeland Security, Washington, DC 20528.

II. For operational components that comprise the U.S. Department of Homeland Security, the System Managers are as follows:

United States Coast Guard, FOIA Officer/PA System Manager, Commandant, CG-611, U.S. Coast Guard, 2100 2nd Street, SW., Washington, DC 20593-0001

United States Secret Service, FOIA Officer/PA System Manager Suite 3000, 950 H Street, NW., Washington, DC 20223

United States Citizenship and Immigration Services, ATTN: Records Services Branch (FOIA/PA), 111 Massachusetts Avenue, NW., 2nd Floor, Washington, DC 20529

Under Secretary for Emergency Preparedness and Response (includes Federal Emergency Management Agency), FOIA Officer/PA System Manager, 500 C Street, SW., Room 840, Washington, DC 20472

Under Secretary for Border and Transportation Security, Department of Homeland Security, C/o Departmental Disclosure Officer, Privacy Office, Washington, DC 20528

United States Customs and Border Protection, FOIA Officer/PA System Manager, Disclosure Law Branch, Office of Regulations & Rulings, Ronald Reagan Building, 1300 Pennsylvania Avenue, NW (Mint Annex)., Washington, DC 20229

United States Immigration and Customs Enforcement, FOIA Officer/PA System Manager, Office of Investigation, Chester Arthur Building (CAB), 425 I Street, NW., Room 4038, Washington, DC 20538

Transportation Security Administration, FOIA Officer/PA System Manager, Office of Security, West Building, 4th Floor, Room 432-N, TSA-20, 601 South 12th Street, Arlington, VA 22202-4220

Federal Protective Service, FOIA Officer/PA System Manager, 1800 F Street, NW., Suite 2341, Washington, DC 20405

Federal Law Enforcement Training Center, Disclosure Officer, 1131 Chapel Crossing Road, Building 94, Glynco, GA 31524

Under Secretary for Science & Technology, FOIA Officer/PA System Manager, Washington, DC 20528

Under Secretary for Information Analysis and Infrastructure Protection, FOIA Officer/PA System Manager, Washington, DC 20528

Under Secretary for Management, FOIA Officer/PA System Manager, 7th and D Streets, SW., Room 4082, Washington, DC 20472

Office of Inspector General, Records Management Officer, Washington, DC 20528

Notification procedure:

To determine whether this system contains records relating to you, write to the appropriate System Manager(s) identified above.

Record access procedures:

A request for access to records in this system may be made by writing to the System Manager, identified above, in conformance with 6 CFR Part 5, Subpart B, which provides the rules for requesting access to Privacy Act records maintained by DHS.

Contesting record procedures:

Same as “Record Access Procedures,” above.

Record source categories:

Information contained in this system is obtained from those individuals who submit requests and administrative appeals pursuant to the FOIA and the PA; the agency records searched and identified as responsive in the process of responding to such requests and appeals; Departmental personnel assigned to handle such requests and appeals; other agencies or entities that have referred to DHS requests concerning DHS records, or that have consulted with DHS regarding handling of particular requests; and submitters or subjects of records or information that have provided assistance to DHS in making access or amendment determinations.

Exemptions claimed for the system:

Portions of this system are exempt under 5 U.S.C. 552a(j)(2), (k)(1), (k)(2) and (k)(5). When DHS is processing Privacy Act and/or FOIA requests, responding to appeals, or participating in FOIA or Privacy Act litigation, exempt materials from other systems of records may become part of the records in this system. To the extent that copies of exempt records from other systems of records are entered into this system, DHS hereby claims the same exemptions for those records that are claimed for the original primary systems of records from which they originated.

DHS/ALL 002

System name:

DHS Mailing and Other Lists System

Security classification:

Sensitive

System location:

This system of records is located in the Department of Homeland Security, Washington, DC 20528, as well as in the component DHS offices listed in “System Managers,” below.

Categories of individuals covered by the system:

All persons appearing on mailing lists maintained throughout DHS to facilitate mailings to multiple addressees and other activities in furtherance of DHS duties. These lists include: Persons who have requested DHS material; members of the news media; DHS employees and the individual(s) they list as emergency contacts, former employees, persons who serve on DHS boards and committees and other individuals having business with DHS who have provided contact information; individuals who enter contests sponsored by DHS; contractors or other individuals who work or attend meetings at DHS; and other persons with an interest in DHS programs, contests, exhibits, conferences, training courses, and similar events.

Categories of records in the system:

Names, age, school grade, school name, home telephone numbers, cellular phone numbers, pager numbers, numbers where individuals can be reached while on travel or otherwise away from the office, home addresses, electronic mail addresses, names and phone numbers of family members or other contacts, position/title, business affiliation (where appropriate); and other contact information provided to the Department by individuals covered by this system of records or derived from other sources.

Authority for maintenance of the system:

5 U.S.C. 301; 44 U.S.C. 3101.

Purpose(s):

The system is maintained for the purpose of mailing informational literature to those who request it; maintaining lists of individuals who attend meetings; maintaining contact and emergency contact information for DHS employees and contractors working on site at DHS; maintaining information regarding individuals who enter contests sponsored by DHS; and for other purposes for which mailing or contact lists may be created.

Routine uses of these records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

(1) To DHS employees, contractors, consultants or others, when necessary to perform a function or service related to this system of records for which they have been engaged. Such recipients are required to comply with the Privacy Act, 5 U.S.C. 552a, as amended.

(2) To a congressional office from the record of an individual in response to an inquiry from that congressional office made at the request of the individual to whom the record pertains.

(3) To the National Archives and Records Administration or other federal government agencies pursuant to records management inspections being conducted under the authority of 44 U.S.C. 2904 and 2906.

(4) To the Department of Justice, United States Attorney's Office, or a consumer reporting agency for further collection action on any delinquent debt when circumstances warrant.

Disclosure to consumer reporting agencies:

None.

Policies and practices for storing, retrieving, accessing, retaining, and disposing of records in the system:

Storage:

Records in this system are on paper and/or in digital or other electronic form. Digital and other electronic images are stored on a storage area network in a secured environment.

Retrievability:

Information typically will be retrieved by an identification number assigned by computer, by e-mail address, or by name of an individual.

Safeguards:

Information in this system is safeguarded in accordance with applicable laws, rules and policies, including the DHS Information Technology Security Program Handbook. All records are protected from unauthorized access through appropriate administrative, physical, and technical safeguards. These safeguards include restricting access to authorized personnel who have a need-to-know, using locks, and password protection identification features. DHS file areas are locked after normal duty hours and the facilities are protected from the outside by security personnel.

Retention and disposal:

Some records are retained and disposed of in accordance with the National Archives and Records Administration's General Records Schedule 12 (Communications Records). Other records are retained and disposed of in accordance with General Records Schedule 1. Files may be retained for up to three years or less depending on the record. For records that may be used in litigation, the files related to that litigation will be retained for three years after final court adjudication.

System manager(s) and addresses:

I. For Headquarters components of the Department of Homeland Security, the System Manager is the Director of Departmental Disclosure, U.S. Department of Homeland Security, Washington, DC 20528.

II. For operational components that comprise the U.S. Department of Homeland Security, the System Managers are as follows:

United States Coast Guard, FOIA Officer/PA System Manager, Commandant, CG-611, U.S. Coast Guard, 2100 2nd Street, SW., Washington, DC 20593-0001.

United States Secret Service, FOIA/PA System Manager, Suite 3000, 950 H Street, NW., Washington, DC 20223.

Under Secretary for Emergency Preparedness and Response (includes Federal Emergency Management Agency), FOIA/PA System Manager, 500 C Street, SW., Room 840, Washington, DC 20472.

Under Secretary for Border and Transportation Security, Department of Homeland Security, c/o Departmental Disclosure Officer, Privacy Office, Washington, DC 20528.

United States Citizenship and Immigration Services, U.S. Citizenship and Immigration Services, ATTN: Records Services Branch (FOIA/PA), 111 Massachusetts Ave, NW., 2nd Floor, Washington, DC 20529.

Bureau of Customs and Border Protection, FOIA/PA System Manager, Disclosure Law Branch, Office of Regulations & Rulings, Ronald Reagan Building, 1300 Pennsylvania Avenue, NW., (Mint Annex) Washington, DC 20229.

Bureau of Immigration and Customs Enforcement, FOIA/PA System Manager, Office of Investigation, Chester Arthur Building (CAB), 425 I Street, NW., Room 4038, Washington, DC 20538

Transportation Security Administration, FOIA/PA System Manager, Office of Security, West Building, 4th Floor, Room 432-N, TSA-20, 601 South 12th Street, Arlington, VA 22202-4220

Federal Protective Service, FOIA/PA System Manager, 1800 F Street, NW., Suite 2341, Washington, DC 20405

Federal Law Enforcement Training Center, Disclosure Officer, 1131 Chapel Crossing Road, Building 94, Glynco, GA 31524

Under Secretary for Science & Technology, FOIA/PA System Manager, Washington, DC 20528

Under Secretary for Information Analysis and Infrastructure Protection, Nebraska Avenue Complex, Building 19, 3rd floor, Washington, DC 20528

Office of Inspector General, Records Management Officer, Washington, DC 20528

Notification procedure:

To determine whether this system contains records relating to you, write to the appropriate System Manager(s) identified above.

Record access procedures:

A request for access to records in this system may be made by writing to the System Manager, identified above, in conformance with 6 CFR Part 5, Subpart B, which provides the rules for requesting access to Privacy Act records maintained by DHS.

Contesting record procedures:

Same as “Record Access Procedures,” above.

Record source categories:

Information contained in this system is obtained from affected individuals/organizations, public source data, other government agencies and/or information already in other DHS records systems.

Exemptions claimed for the system:

None.

DHS/CRCL 001

System name:

Civil Rights and Civil Liberties (CRCL) Matters

System Location:

Office of Civil Rights and Civil Liberties, Department of Homeland Security (DHS), Washington, DC 20528.

Categories of individuals covered by the system:

Persons who contact CRCL to allege abuses of civil rights and civil liberties, or to allege racial or ethnic profiling by DHS, its employees, contractors, grantees, or others acting under the authority of the Department; persons alleged to be involved in civil rights or civil liberties abuses or racial or ethnic profiling, victims or witnesses to such abuse; third parties not directly involved in the alleged incident, but identified as relevant persons to an investigation; and DHS employees and contractors.

Identifying data contained in this information may include, but is not limited to: The name of persons making a report; home or work address, telephone number, e-mail address; social security number; alien registration number; and other unique identifiers assigned to the information.

Categories of records in the system:

Records in this system consist of complaints, comments, investigative notes and memoranda, correspondence, evidentiary documents and material, and reports relating to the resolution of complaints. The system also contains similar information relating to witnesses, persons involved in the alleged incident or other persons with relevant information.

Authority for maintenance of the system:

6 U.S.C. 345; 44 U.S.C. 3101.

Purpose(s):

The purpose of this system is to allow the Officer for Civil Rights and Civil Liberties and staff to maintain relevant information necessary to review complaints or comments about alleged civil rights or civil liberties violations, or racial or ethnic profiling tied to the Department's activities. The system will also track and maintain investigative files and records of complaint resolution and other matters, and facilitate oversight and accountability of the Department's civil rights and civil liberties complaint resolution mechanisms.

Routine uses of these records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

(1) To another federal agency with responsibility for labor or employment relations or other matters, when that agency has jurisdiction over matters reported to CRCL;

(2) Where a record, either on its face or in conjunction with other information, indicates a violation or potential violation of law (i.e. criminal, civil or regulatory) the relevant records may be referred to an appropriate Federal, state, territorial, tribal, local, international, or foreign agency law enforcement agency or other appropriate authority charged with investigating or prosecuting such a violation or enforcing or implementing such law;

(3) To an organization or individual in either the public or private sector, either foreign or domestic, where there is a reason to believe that the recipient is or could become the target of a particular terrorist activity or conspiracy, to the extent the information is relevant to the protection of life or property;

(4) To a congressional office from the record of an individual in response to an inquiry from that congressional office made at the request of the individual to whom the record pertains;

(5) To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility;

(6) To contractors, grantees, experts, consultants, students, and others performing or working on a contract, service, grant, cooperative agreement, or other assignment for the Federal government, when necessary to accomplish an agency function related to this system of records;

(7) To the National Archives and Records Administration, or other federal government agencies pursuant to records management operations conducted under the authority of 44 U.S.C. 2904 and 2906;

(8) To the Department of Justice or other federal agency conducting litigation or in proceedings before any court, adjudicative or administrative body, when (a) DHS, or (b) any employee of DHS in his/her official capacity, or (c) any employee of DHS in his/her individual capacity where DOJ or DHS has agreed to represent the employee, or (d) the United States or any agency thereof, is a party to the litigation or has an interest in such litigation, and DHS determines that disclosure is relevant and necessary to the litigation.

Policies and practices for storing, retrieving, accessing, retaining, and disposing of records in the system:

Storage:

These records are stored in an electronic database or paper media and may include physical objects as exhibits.

Retrievability:

Information may be retrieved by name, incident code, unique personal identifier, or other identifying data.

Safeguards:

Records are stored in a secure, guarded, facility, at which a badge must be shown to enter. The storage area is locked when not attended by CRCL personnel. Electronic records are maintained in accordance with DHS security policies contained in the DHS Information Technology Security Program Handbook and the DHS Sensitive Systems Handbook. Electronic records are password-protected and can only be accessed from a DHS work station. All CRCL personnel are briefed prior to gaining initial access and annually thereafter.

Retention and disposal:

These records are governed by General Records Schedule 1, Item 25 and will be retained and disposed of in accordance with that schedule.

System manager(s) and address:

Officer for Civil Rights and Civil Liberties, U.S. Department of Homeland Security, Washington, DC 20528.

Notification procedure:

Address inquiries to the System Manager named above.

Record access procedure:

A request for access to records in this system may be made by writing to the System Manager, identified above, in conformance with 6 CFR Part 5, Subpart B, which provides the rules for requesting access to Privacy Act records maintained by DHS.

Contesting record procedure:

Same as “Records access procedure.”

Record source categories:

Information in this system of records is obtained from correspondence, telephone calls, e-mails, facsimiles, or other means of reporting allegations of civil rights or civil liberties abuses, or racial or ethnic profiling.

Exemptions claimed for the system:

Certain portions of CRCL's files containing information relating to ongoing criminal investigations or national security activities may be exempt from disclosure pursuant to 5 U.S.C. 552a(k)(1), (k)(2) and (k)(5).

Dated: December 1, 2004.
Nuala O'Connor Kelly,
Chief Privacy Officer.

[FR Doc. 04-26744 Filed 12-3-04; 8:45 am]

BILLING CODE 4410-10-P